DEPARTMENT OF STATE

[Public Notice: 8796]

30-Day Notice of Proposed Information Collection: NEA/AC Performance Reporting System (PRS)

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 15, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Markita Cooke, U.S. Department of State, Assistance Coordination Office, Bureau of Near Eastern Affairs, NEA Mail Room—Room 6258, 2201 C St. NW., Washington, DC 20520, who may be reached on 202-776-8309 or at CookeMA@state.gov.

SUPPLEMENTARY INFORMATION: • Title of Information Collection: NEA/AC Performance Reporting System (PRS).

• OMB Control Number: 1405-0183.

• Type of Request: Extension.

• Originating Office: NEA/AC.

• Form Number: DS-4127.

• Respondents: Recipients of NEA/AC grants.

• Estimated Number of Respondents: 125 respondents annually.

• Estimated Number of Responses: 500 per year.

• Average Time per Response: 20 hours.

• Total Estimated Burden Time: 10,000 hours.

• Frequency: Quarterly.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Assistance Coordination (AC) Office, established in June 2014, coordinates United States government foreign assistance in the Middle East and North Africa region for the Department of State, and manages the implementation of all the assistance functions within the Department of State's Bureau of Near Eastern Affairs. In fiscal year 2014, the AC office will obligate over $120 million in support of political, economic, education and women's rights reform in 20 countries of the Middle East and North Africa. As a normal course of business and in compliance with 22 U.S.C. 2395(b) and OMB Guidelines contained in Circular A-110, recipient organizations are required to provide, and the U.S. Department of State is required to collect, periodic program and financial performance reports. The responsibility of the Department to track and monitor the programmatic and financial performance necessitates a database that can help facilitate this in a consistent and standardized manner. The NEA/AC Performance Reporting System (PRS) enables enhanced monitoring and evaluation of grants through standardized collection and storage of relevant award elements, such as quarterly progress reports, workplans, results monitoring plans, grant agreements, and other business information related to AC implementers. The PRS streamlines communication with implementers and allows for rapid identification of information gaps for specific projects.

Methodology

Information will be entered into PRS electronically by respondents.

Dated: July 8, 2014.
Catherine Bourgeois,
Chief of Staff, Bureau of Near Eastern Affairs, NEA/AC Department of State.

[FR Doc. 2014-16769 Filed 7-15-14; 8:45 am]

BILLING CODE 4710-31-P